DEPARTMENT OF THE INTERIOR

Bureau of Land Management

[LLCOF07000.L14400000.EU0000.19X; COC-78399]

Notice of Realty Action: Direct Sale of Public Land in Saguache County, CO

AGENCY: Bureau of Land Management, Interior.

ACTION: Notice of realty action.

SUMMARY: The Bureau of Land Management (BLM) is proposing a direct (non-competitive) sale of 0.21 acre of public land in Saguache County, Colorado to Lucky 3 (Lucky 3), Inc. The appraised fair market value for the sale parcel is $350. The direct sale will resolve an inadvertent unauthorized occupancy on the subject public land under Sections 203 and 209 of the Federal Land Policy and Management Act (FLPMA) of 1976 and BLM land sale regulations.

DATES: Written comments must be received no later than December 2, 2019.

ADDRESSES: Mail written comments to Associate Field Manager, BLM Gunnison Field Office, 210 W Spencer Ave., Suite A, Gunnison, CO 81230. Written comments may also be emailed to blm_co_gfo_nepa_comments@blm.gov. A copy of the Environmental Assessment (EA) is available online at https://go.usa.gov/xPm2b.

FOR FURTHER INFORMATION CONTACT: Marnie Medina, Realty Specialist, by telephone (970) 642-4954 or by email at mmedina@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: In 1998, Lucky 3 acquired private land adjacent to public land south of Cochetopa Park. Due to a miscommunication between Lucky 3 and its land surveyor, Lucky 3 inadvertently constructed a cabin, an underground propane tank, and a septic tank on the adjacent public land. Lucky 3 later discovered its error with the land status and notified the BLM, which now proposes to resolve this nonwillful, inadvertent trespass through a direct sale.

The sale meets the criteria for a direct sale in accordance with FLPMA, Section 203(a)(3) and 43 CFR 2711.3-3(a). Direct sales (without competition) may be used when, in the opinion of the authorized officer, a competitive sale is not appropriate and the public interest would best be served by a direct sale.

A mineral potential report was completed on September 10, 2018, which found that the mineral potential for the parcel is low to none. The criteria established in FLPMA Section 209(b)(1)(2) allows transfer of the minerals to the surface owner if a reservation would interfere with or preclude the current residential use of the parcel and that such residential development is a more beneficial use of the land than potential mineral development. Since the property is encumbered with development, transferring the minerals would protect the private structures from potential mineral development on the property. Current development on the 0.21-acre parcel includes: A cabin on a poured concrete foundation with a patio, a covered patio, a deck, and stairs to the deck; an underground propane tank; an underground septic tank; and associated buried pipes for propane, water, and sewage. A water well that services the cabin is located on the adjacent private property about 35 feet from the property boundary. Any mineral development on the parcel would likely require removal of the improvements. Given that the mineral potential on the parcel is low to none, the current residential use of the parcel is the most beneficial use of the property. In accordance with BLM regulations, the BLM authorized officer finds the public interest would best be served by conducting a direct sale pursuant to 43 CFR 2711.3-3(a)(5). This regulation allows a direct sale when a need exists to resolve inadvertent unauthorized use or occupancy of the lands.

The subject parcel, which is approximately 30 miles southeast of Gunnison, Colorado, at the southern end of Cochetopa Park in Saguache County and is legally described as:

New Mexico Principal Meridian, Colorado

T. 45 N, R. 2 E,

sec. 24, lot 4.

The area described contains 0.21 acres.

This direct sale is in conformance with the BLM Gunnison Resource Area Approved Resource Management Plan, approved in February 1993.

In conformance with the National Environmental Policy Act, a parcel-specific EA document numbered DOI-BLM-CO-F070-2017-0010-EA was prepared in connection with this Notice (see ADDRESSES). Based on the EA, a signed and approved Finding of No Significant Impact and a Decision dated October 5, 2018, the BLM is proceeding with the direct sale pending publication of this Notice.

Pursuant to the requirements of 43 CFR 2711.1-2(d), publication of this Notice in the Federal Register will segregate the land from all forms of appropriation under the public land laws, including the mining laws, except for the sale provisions of FLPMA. Until completion of the direct sale, the BLM will no longer accept land use applications affecting the public land. The segregative effect will terminate upon issuance of a patent, publication in the Federal Register or on a termination of the segregation, or on October 18, 2021 unless extended by the BLM Colorado State Director in accordance with 43 CFR 2711.1-2(d) prior to the termination date.

The patent, if issued, will be subject to the following terms, conditions, and reservations:

1. Reservation of rights-of-way thereon for ditches and canals constructed by the authority of the United States Act of August 30, 1890 (43 U.S.C. 945);

2. All valid existing rights issued prior to conveyance; and

3. An appropriate indemnification clause protecting the United States from claims arising out of the patentee's use, occupancy, or occupation on the patented land.

Information concerning the direct sale, appraisal, reservations, procedures and conditions, and other environmental documents that may appear in the BLM public files for this direct sale parcel are available for review during normal business hours, Monday through Friday, except during Federal holidays, at the BLM Gunnison Field Office (see ADDRESSES).

All interested parties will receive a copy of this Notice once it is published in the Federal Register. The BLM will publish this Notice in the Valley Courier newspaper once a week for 3 consecutive weeks.

Before including your address, phone number, email address, or other personal identifying information in your comments, be aware that your entire comment—including your personal identifying information—may be made publicly available at any time. While you can ask us in your comment to withhold your personal identifying information from public review, we cannot guarantee that we will be able to do so.

Any adverse comments regarding this direct sale will be reviewed by the BLM State Director or other authorized official of the Department of the Interior, who may sustain, vacate, or modify this realty action in whole or in part. In the absence of any timely filed objections, this realty action will become the final determination of the Department of the Interior.

(Authority: 43 CFR 2711).

Jamie E. Connell,
Colorado State Director.

[FR Doc. 2019-22714 Filed 10-17-19; 8:45 am]

BILLING CODE 4310-JB-P